NATIONAL CAPITAL PLANNING COMMISSION

Public Comment and Public Meeting on Draft Revisions to the Transportation Element and Federal Workplace Element of the Comprehensive Plan for the National Capital: Federal Elements

AGENCY: National Capital Planning Commission.

ACTION: Notice of public comment period and public meeting.

SUMMARY: The National Capital Planning Commission (NCPC), the Planning Commission for the Federal Government within the National Capital Region, has released for public comment draft revisions to the Transportation and Federal Workplace Elements of the Comprehensive Plan for the National Capital: Federal Elements. The Comprehensive Plan for the National Capital: Federal Elements addresses matters relating to Federal Properties and Federal Interests in the National Capital Region, and provides a decision-making framework for actions the NCPC takes on specific plans and proposals submitted by Federal government agencies for the NCPC review as required by law. The Transportation Element articulates policies that guide actions on federal employee commuting, transportation investment, and integrating federal facilities into the regional transportation network. The Federal Workplace Element provides policies for the location, development and management of federal workplaces throughout the region. All interested parties are invited to submit written comments and/or attend the public meeting. The draft revised Transportation and Federal Workplace Elements are available online at http://www.ncpc.gov/compplan. Printed copies are available upon request from the contact person noted below.

DATE AND TIME: The public comment period closes on September 12, 2011. A public meeting to discuss the draft revisions to the Transportation Element and the Federal Workplace Element will be held on August 10, 2011 from 6:30 p.m. to 8:30 p.m.

ADDRESSES: Mail written or hand deliver comments on the draft revisions to Comprehensive Plan Public Comment, National Capital Planning Commission, 401 9th Street, NW., Suite 500, Washington, DC 20004. The public meeting will be held at 401 9th Street, NW., North Lobby, Suite 500, Washington, DC 20004.

FOR FURTHER INFORMATION CONTACT: David Zaidain at (202) 482-7230 or david.zaidain@ncpc.gov. Please confirm meeting attendance with Mr. Zaidain or as noted below.

SUPPLEMENTARY INFORMATION:

Electronic Access and Filing Addresses

You may submit comments electronically at the public comment portal at http://www.ncpc.gov/compplan. Confirm meeting attendance at http://www.ncpc.gov.rsvp.

Speaker Sign-Up and Speaking Time Limits

Individuals interested in speaking at the meeting should indicate their intent on the speaker sign-up sheet available at the meeting. Speakers are asked to limit their remarks to five minutes. applies.

Authority: (40 U.S.C. 8721(e)(2)).

July 13, 2011.
Anne R. Schuyler,
General Counsel.

[FR Doc. 2011-18032 Filed 7-19-11; 8:45 am]

BILLING CODE M